ENVIRONMENTAL PROTECTION AGENCY

[ER-FRL-9051-9]

Environmental Impact Statements; Notice of Availability

Responsible Agency: Office of Federal Activities, General Information 202-564-5632 or https://www.epa.gov/nepa.

Weekly receipt of Environmental Impact Statements (EIS)

Filed July 13, 2020, 10 a.m. EST Through July 20, 2020, 10 a.m. EST

Pursuant to 40 CFR 1506.9.

Notice:

Section 309(a) of the Clean Air Act requires that EPA make public its comments on EISs issued by other Federal agencies. EPA's comment letters on EISs are available at: https://cdxnodengn.epa.gov/cdx-enepa-public/action/eis/search.

EIS No. 20200146, Draft, USA, MD, Fort Davison Army Airfield Area Development Plan, Comment Period Ends: 09/08/2020, Contact: Fort Belvoir Directorate of Public Works, Environmental Division (DPW-ED) 703-806-0020.

EIS No. 20200147, Final Supplement, NASA, CA, Final Supplemental Environmental Impact Statement for Soil Cleanup Activities at Santa Susana Field Laboratory, Review Period Ends: 08/24/2020, Contact: Peter Zorba, SSFL Project Director 202-714-0496.

EIS No. 20200148, Final, USACE, AK, Pebble Mine, Review Period Ends: 08/24/2020, Contact: Shane McCoy 907-753-2715.

Amended Notice:

EIS No. 20200060, Draft, FHWA, VA, Route 220 Martinsville Southern Connector, Comment Period Ends: 09/11/2020, Contact: Mack A Frost 804-775-3352. Revision to FR Notice Published 06/19/2020; Extending the Comment Period from 7/24/2020 to 9/11/2020.

Dated: July 20, 2020.
Cindy S. Barger,
Director, NEPA Compliance Division, Office of Federal Activities.

[FR Doc. 2020-16055 Filed 7-23-20; 8:45 am]

BILLING CODE 6560-50-P